DEPARTMENT OF HOMELAND SECURITY

Office of the Secretary

Public Workshop: Transparency and Accountability: The Use of Personal Information Within the Government

AGENCY: Privacy Office, Department of Homeland Security.

ACTION: Notice announcing public workshop.

SUMMARY: The Department of Homeland Security Privacy Office will host a public workshop, “Transparency and Accountability: The Use of Personal Information within the Government,” to explore the concept of public notices and freedom of information frameworks.

DATES: The workshop will be held on Wednesday, April 5, 2006, in Washington, DC from 8:30 a.m. to 4:30 p.m.

ADDRESSES: The Privacy Workshop will be held in the Horizon Ballroom at the Ronald Reagan Building and International Trade Center, 1300 Pennsylvania Avenue, Washington, DC, 20004.

FOR FURTHER INFORMATION CONTACT: Kathleen Kavanaugh, Privacy Office, Department of Homeland Security, Arlington, VA, 22202 by telephone (571) 227-3813, by facsimile (571) 227-4171, or by e-mail privacyworkshop@dhs.gov.

SUPPLEMENTARY INFORMATION: The Department of Homeland Security (DHS) Privacy Office is holding a public workshop to explore comparative government frameworks on transparency and accountability. The program will be organized into three panel discussions that will allow for presentation of a broad range of perspectives provided by experts from United States and foreign governments. In addition to the panel discussions, time will be allotted during the workshop for questions and comments from the audience.

The program will begin with a discussion of privacy notices as a transparency tool, followed by a discussion of the Freedom of Information Act (FOIA), and in particular, how the law has provided accountability on government use of personal information. The workshop will conclude with a comparison of international freedom of information laws. The workshop is open to the public and there is no fee for attendance. For general security purposes, the Ronald Reagan Building requires that all attendees show a valid form of photo identification, such as a driver's license, to enter the building.

The Privacy Office will post additional information about the workshop, including a detailed agenda, on the DHS Privacy Office Web site at http://www.dhs.gov/privacy prior to the event. A transcript of the workshop will be posted shortly after the workshop.

Dated: March 15, 2006.
Maureen Cooney,
Acting Chief Privacy Officer, Chief Freedom of Information Officer.

[FR Doc. E6-4227 Filed 3-23-06; 8:45 am]

BILLING CODE 4410-10-P